DEPARTMENT OF HEALTH AND HUMAN SERVICES

Agency for Toxic Substances and Disease Registry

Program To Build Capacity in Alaska Native Villages To Assess Impact of Releases From Formerly Used Defense Sites; Notice of Availability of Funds

Announcement Type: New.

Funding Opportunity Number: 04081.

Catalog of Federal Domestic Assistance Number: 93.202.

DATES: Pre-Application Conference Call Date: February 17, 2004.

Application Deadline: April 2, 2004.

I. Funding Opportunity Description

Authority: This program is authorized under section 104(i)(6), (14), and (15) of the Comprehensive Environmental Response, Compensation, and Liability Act (CERCLA) of 1980, as amended by the Superfund Amendments and Reauthorization Act (SARA) of 1986 [42 U.S.C. 9604(i)(6), (14), and (15)].

Purpose: The Agency for Toxic Substances and Disease Registry (ATSDR) announces the availability of fiscal year (FY) 2004 funds for cooperative agreements for up to nine Alaska villages to determine the possible impact of environmental contamination on local resources, and provide health-related technical assistance and health education to prevent contamination of local subsistence food supplies. Many Alaska villages rely on local natural resources for subsistence. In instances where environmental contamination and the potential for adverse health effects prohibit the use of a local resource, the environmental contamination would also result in an economic impact; villages would no longer be able to sell their resources and would have to purchase those resources from other sources. The purpose of the program is to: (1) Improve the local economic conditions by determining the possible impact of environmental contamination from Formerly Used Defense Sites (FUDS) on the local resources by assessing the pathways of exposure to contaminants from FUDS, with a special emphasis on the impact of these contaminants on subsistence-related food supplies; (2) create capacity within Alaska Native villages to assess public health issues related to pathways of exposure and provide health-related technical assistance and health education; and (3) develop the environmental health education and health promotion capacity within the villages to provide appropriate environmental health education and health promotion activities that are designed to address potential exposures and possible health effects. This program addresses the “Healthy People 2010” focus areas of educational and community-based programs, environmental health, and maternal, infant, and child health.

Measurable outcomes of the program will be in alignment with one (or more) of the following performance goals for the ATSDR: Prevent ongoing and future exposures and resultant health effects from hazardous waste sites and releases. Build and enhance effective partnerships.

Activities

Awardee activities for this program are as follows:

a. Attend the Health Assessment training course provided by ATSDR.

b. Prepare culturally relevant and sensitive environmental health education materials, promotion materials, and activities that are designed to address community concerns related to environmental contamination from FUDS sites. This may include information regarding potential health effects (both cancer and non-cancer), site-specific chemicals, the possible impact on local food sources, and information regarding exposures that are unique to each village.

c. Provide local knowledge of hazardous waste site conditions, site history, and natural resource use, assist with data gathering, assist with obtaining community concerns, etc.

d. With ATSDR, jointly develop public health assessments, recommendations to reduce exposure, and identify areas for the needed health education related to environmental contamination. Information on ATSDR public health assessments can be found at the ATSDR Web page http://www.atsdr.cdc.gov/HAC/PHA/.

e. Work in collaboration with federal, state, and local agency staff, community and village members, and local health care providers to develop and implement culturally relevant and sensitive environmental health education and promotion activities and to enhance outreach, communication and information exchange related to contamination from FUDS sites. The materials are to be designed to address community concerns related to environmental contamination, including results of health assessments, cancer, chemicals, and exposures unique to each village.

f. Distribute educational materials and develop and participate in other relevant health education activities such as working with health care providers, development of curriculum and working with students, demonstration of food preparation methods to reduce exposures, etc.

g. Meet monthly, either telephonically or in person, with ATSDR and other program participants to coordinate planned efforts and review progress.

In a cooperative agreement, ATSDR staff is substantially involved with the program activities, above and beyond routine grant monitoring.

ATSDR activities for this program are as follows:

a. ATSDR will provide a culturally appropriate Public Health Assessment Training Course for staff from selected villages and other interested Alaska Natives who work in environmental health. The course will explain the process that ATSDR uses to assess environmental health impacts from hazardous substances. Participants will also learn the fundamentals to evaluate pathways of exposure and associated health impacts of these exposures. This includes how to evaluate environmental sampling data, steps for involving the community in the assessment process, identifying potential and completed exposure pathways, evaluating health implications and determining appropriate public health actions. Participants will also learn methods to apply health education, health promotion, and risk communication principles at sites.

b. ATSDR and the funded villages will jointly develop public health assessments and health consultations which identify pathways of exposure, make recommendations to reduce exposures to environmental contaminants, and identify areas needed for health education and health promotion.

c. ATSDR will work in collaboration with other federal, state, and local agency staff, community and village members, and local health care providers to develop and implement environmental health education and promotion activities and to enhance outreach, communication and information exchange related to FUDS.

II. Award Information

Type of Award: Cooperative Agreement.

ATSDR involvement in this program is listed in the Activities Section above.

Fiscal Year Funds: FY 2004.

Approximate Total Funding: $600,000.

Approximate Number of Awards: Six to Nine.

Approximate Average Award: $67,000 (This amount is for the whole budget period, and includes both direct and indirect costs).

Floor of Award Range: $50,000.

Ceiling of Award Range: $100,000.

Anticipated Award Date: July 15, 2004.

Budget Period Length: 12 months.

Project Period Length: Two years.

Throughout the project period, ATSDR's commitment to continuation of awards will be conditioned on the availability of funds, evidence of satisfactory progress by the recipient (as documented in required reports), and the determination that continued funding is in the best interest of the Federal Government.

III. Eligibility Information

III.1. Eligible Applicants

Applications may be submitted by:

• Federally recognized Alaska native tribal governments

• Alaska native tribal organizations

This program is directed only to federally recognized Alaska Native Villages.

This announcement is limited to only those tribes with proximity to FUDS in Alaska and with suspected impacts on economies and traditional foods.

III.2. Cost Sharing or Matching

Matching funds are not required for this program.

III.3. Other Eligibility Requirements

If you request a funding amount greater than the ceiling of the award range, your application will be considered non-responsive and will not be entered into the review process. You will be notified that your application did not meet the submission requirements.

Note: Title 2 of the United States Code section 1611 states that an organization described in section 501(c)(4) of the Internal Revenue Code that engages in lobbying activities is not eligible to receive Federal funds constituting an award, grant, or loan.

IV. Application and Submission Information

IV.1. Address To Request Application Package

A pre-application conference call will be held [INSERT DATE] at [INSERT TIME]. Attendance at the conference call is not required, however, during the call information about this program, guidance for completing your application, will be discussed. To participate in the conference call, dial [INSERT info about phone number, any access codes or passwords]. If you experience technical difficulties accessing the conference call, please call [INSERT number] and someone will be available to assist you. If you are unable to participate in the conference call, the information discussed will be available by [INSERT DATE] on the ATSDR web page at the following Internet address: [INSERT address].

To apply for this funding opportunity use application form PHS 5161. Application forms and instructions are available on the CDC Web site, at the following Internet address: www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711. For more information, see the CDC Web site at: http://www.cdc.gov/od/pgo/funding/pubcommt.htm. If your application form does not have a DUNS number field, please write your DUNS number at the top of the first page of your application, and/or include your DUNS number in your application cover letter.

You must submit a signed original and two copies of your application forms.

You must include a project narrative with your application forms. Your narrative must be submitted in the following format:

• Maximum number of pages: 20. If your narrative exceeds the page limit, only the first pages that are within the page limit will be reviewed

• Font size: 12 point unreduced

• Paper size: 8.5 by 11 inches

• Single spaced

• Page margin size: One inch

• Printed only on one side of page

• Held together only by rubber bands or metal clips; not bound in any other way.

Your narrative should address activities to be conducted over the entire project period, and must include the following items in the order listed:

a. Background information on the FUDS in your village: history, known contamination, how the land was used before the FUDS existed.

b. Potential for exposure to hazardous substances originating from a FUDS.

c. Potential impact of FUDS contamination from the FUDS on natural resources that the village depends on both for subsistence and as an economic resource, with a special emphasis on subsistence food sources.

d. Ability to provide staff that will complete the activities required for this program.

e. Ability to develop health educational materials to address the FUDS. Include a plan and timeline for developing health educational materials.

f. Knowledge about how environmental contamination has impacted health of your village members and how the contamination has impacted the economic condition of the village. Include a plan and timeline for data gathering, obtaining community concerns, developing health assessments, identifying areas with the greatest need for health education, and providing recommendations to reduce exposure.

Additional information may be included in the application appendices. The appendices will not be counted toward the narrative page limit. This additional information includes:

• Curriculum Vitaes, Resumes, Organizational Charts, Letters of Support, etc.

IV.3. Submission Dates and Times

Application Deadline Date: April 2, 2004.

Explanation of Deadlines: Applications must be received in the CDC Procurement and Grants Office by 4 p.m. Eastern Time on the deadline date. If you send your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carriers guarantee. If the documentation verifies a carrier problem, CDC will consider the application as having been received by the deadline.

This program announcement is the definitive guide on submission address and deadlines. It supersedes information provided in the application instructions. If your application does not meet the deadline above, it will not be eligible for review, and will be discarded. You will be notified that your application did not meet the submission requirements.

CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Funding restrictions which must be taken into account while writing your budget are as follows: None

If you are requesting indirect costs in your budget, you must include a copy of your indirect cost rate agreement. If your indirect cost rate is a provisional rate, the agreement should be less than 12 months of age.

Guidance for completing your budget can be found on the CDC Web site, at the following Internet address: http://www.cdc.gov/od/pgo/funding/budgetguide.htm.

Application Submission Address: Submit the signed hard copy original and two copies of your application by mail or express delivery service to: Technical Information Management-PA#04081, CDC Procurement and Grants Office, 2920 Brandywine Road, Atlanta, GA 30341. Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Ability to provide staff who will complete the activities required for this program including: (50 percent total)

• Attend the Health Assessment training course provided by ATSDR in Alaska. (10 percent)

• Prepare culturally relevant and sensitive environmental health education and health promotion materials that are designed to address community concerns such as health effects (both cancer and non-cancer), exposure to environmental contaminants, and exposures that are unique to each village. (10 percent)

• Provide local knowledge of hazardous waste site conditions, assist in data gathering, obtain community concerns, etc. (10 percent)

• Develop health assessments, recommendations to reduce exposure, and identify areas with the greatest need for health education. (10 percent)

• Demonstrated ability to work collaboratively with tribal members, federal, state, and local agencies and health care providers to address health concerns and identify areas with greatest need for health education. (10 percent)

2. Potential impact of contamination from FUDS on natural resources that the village uses and size range of potentially impacted population. Does the village have a current substantial subsistence-based activity where FUDS may impact the long-term economic viability of the community; where subsistence activities impact the local community; or where development of business activities go beyond the local village community to markets outside the region. (30 percent)

3. Potential for exposure to hazardous substances originating from a FUDS. Identify the FUDS, known hazardous substances present, known contamination in the environment (e.g., soil, water, food, animals), and use of land and/or resources affected by the FUDS. (20 percent)

V.2. Review and Selection Process

Applications will be reviewed for completeness by the Procurement and Grants Office (PGO), and for responsiveness by ATSDR. Incomplete applications and applications that are non-responsive to the eligibility criteria will not advance through the review process. Applicants will be notified that their application did not meet submission requirements.

An objective review panel will evaluate your application according to the criteria listed in the Criteria section above.

V.3. Anticipated Announcement and Award Dates

Award Date: July 15, 2004.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html

The following additional requirements apply to this project:

• AR-9 Paperwork Reduction Act Requirements

• AR-10 Smoke-Free Workplace Requirements

• AR-11 Healthy People 2010

• AR-12 Lobbying Restrictions

• AR-18 Cost Recovery—ATSDR

• AR-19 Third Party Agreements—ATSDR

• AR-25 Release and Sharing of Data

Additional information on these requirements can be found on the CDC Web site at the following Internet address: http://www.cdc.gov/od/pgo/funding/ARs.htm.

VI.3. Reporting Requirements

You must provide CDC with a hard copy original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report and annual progress report, no more than 90 days after the end of the budget period.

3. Final financial and performance reports, no more than 90 days after the end of the project period.

These reports must be sent to the Grants Management Specialist listed in the “Agency Contacts” section of this announcement.

VII. Agency Contacts

For general questions about this announcement, contact: Technical Information Management Section, CDC Procurement and Grants Office, 2920 Brandywine Road, Atlanta, GA 30341, Telephone: 770-488-2700.

For program technical assistance, contact: Dean S. Seneca, MPH, MCURP (E-32), Assistant Director, Office of Tribal Affairs, Agency for Toxic Substances and Disease Registry, 1600 Clifton Road NE., Atlanta, GA 30333, Telephone: 404-498-0457, e-mail: DSeneca@cdc.gov.

For budget assistance, contact: Edna Green, Grants Management Specialist (K-75), CDC Procurement and Grants Office, 2920 Brandywine Road, Atlanta, GA 30341, Telephone: 770-488-2743, e-mail: EGreen@cdc.gov.

Dated: January 27, 2004.
Sandra R. Manning,
CGFM,Director, Procurement and Grants Office, Centers for Disease Control and Prevention.

[FR Doc. 04-2047 Filed 1-30-04; 8:45 am]

BILLING CODE 4163-70-P